DEPARTMENT OF TRANSPORTATION

Federal Highway Administration

Environmental Impact Statement: San Diego County, CA

AGENCY: Federal Highway Administration (FHWA), DOT.

ACTION: Notice of intent.

SUMMARY: The FHWA is issuing this notice to advise the public that an environmental impact statement will be prepared for a proposed highway project in San Diego County, California.

FOR FURTHER INFORMATION CONTACT: Cesar Perez, South Region Team Leader, Federal Highway Administration, 650 Capitol Mall Suite 4-100, Sacramento, California 95814, Telephone: (916) 498-5065.

SUPPLEMENTARY INFORMATION: The FHWA, in cooperation with the California Department of Transportation will prepare an environmental impact statement (EIS) on a proposal to improve Interstate 5 (I-5) in San Diego County, California. The proposed improvement would involve the addition of high occupancy vehicle (HOV) lanes/Managed Lanes and general purpose lanes to existing I-5 from the City of San Diego to the City of Oceanside for a distance of approximately 28 miles.

Improvements to the corridor are considered necessary to provide for the existing and projected traffic demand. Also, included in this proposal are the addition of auxiliary lanes, direct access ramps (DARs), and interchange improvements where needed. Alternatives under consideration include (1) taking no action; (2) adding two HOV lanes in each direction plus one general purpose lane in each direction. Incorporated into and studied with the build alternative will be design variations at the six lagoons along the corridor. Alternatives associated with those areas will include (1) retaining walls within existing fill slopes; (2) widening on existing fill slopes; (3) removing existing fill in lagoons and bridging the lagoons; (4) elevated HOV lanes on an independent structure.

Letters describing the proposed action and soliciting comments will be sent to appropriate Federal, State, and local agencies, and to private organizations and citizens who have previously expressed or are known to have interest in this proposal. A series of public scoping meetings will be held in each city along the north coast I-5 corridor between January and February 2003. Public notice will be provided indicating the time and place of the scoping meetings.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: January 5, 2004.
Cesar E. Perez,
South Region Team Leader.

[FR Doc. 04-541 Filed 1-9-04; 8:45 am]

BILLING CODE 4910-22-M